ELECTION ASSISTANCE COMMISSION

Agency Information Collection Activities: EAC Federal Financial Report

AGENCY: Election Assistance Commission.

ACTION: Notice; request for comment.

SUMMARY: As part of its continuing effort to reduce paperwork burdens, and as required by the Paperwork Reduction Act of 1995 (PRA), the U.S. Election Assistance Commission (EAC) gives notice that it is requesting from the Office of Management and Budget (OMB) approval for the information collection EAC Federal Financial Report (EAC-FFR).

DATES: Comments should be submitted by 5 p.m. EST on Monday, August 18, 2025.

ADDRESSES: Comments on the proposed form should be submitted electronically via https://www.regulations.gov (docket ID: EAC-2025-0005).

Written comments on the proposed information collection can also be sent to the U.S. Election Assistance Commission, 633 3rd Street NW, Suite 200, Washington, DC 20001, Attn: Office of Grants Management OCFO.

All requests and submissions should be identified by the title of the information collection.

SUPPLEMENTARY INFORMATION: EAC Federal Financial Report (EAC-FFR); OMB Number: 3265-0022.

Purpose

This proposed information collection was previously published in the Federal Register on Wednesday, May 14, 2025, and allowed 60 days for public comment. In compliance with Section 3507(a)(1)(D) of the Paperwork Reduction Act (PRA) of 1995, EAC has submitted to the Office of Management and Budget (OMB) a request for review and approval of the information collection listed below. The purpose of this notice is to allow an additional 30 days for public comment from all interested individuals and organizations.

The EAC Office of Grants Management (EAC/OGM) is responsible for distributing, monitoring, and providing technical assistance to states and grantees on the use of federal funds. EAC/OGM also reports on how the funds are spent to Congress, negotiates indirect cost rates with grantees, and resolves audit findings on the use of HAVA funds.

The EAC-FFR is employed for all financial reports for grants issued under HAVA authority. This revised format builds upon that report for the various grant awards given by EAC.

The FFR directly benefits award recipients by making it easier for them to administer federal grant and cooperative agreement programs through the standardization of the types of information required in financial reporting, thereby reducing their administrative effort and costs.

Public Comments

The EAC is soliciting public comments on:

• Ways to enhance the quality, utility, and clarity of the information collected from respondents, including using automated collection techniques or other forms of information technology; and

• Ways to minimize the burden of the collection of information on respondents, including through the use of automated collection techniques or other forms of information technology.

Please note that comments submitted in response to this Notice are public record. Before including any detailed personal information, you should be aware that your comments as submitted, including your personal information, will be available for public review.

Description: The EAC proposes collecting financial activity data for HAVA. EAC will use this data to ensure grantees are proceeding satisfactorily in meeting the approved goals and purpose of the project.

Respondents: All EAC grantees and state governments.

Annual Reporting Burden

Annual Burden Estimates
EAC grant | Instrument | Total number of respondents | Total number of responses per year | Average burden hours per response | Annual burden hours
251 | EAC-FFR | 35 | 2 | .5 | 35
101 | EAC-FFR | 20 | 2 | .5 | 20
Election Security | EAC-FFR | 56 | 4 | .5 | 112
HAVCP | EAC-FFR | 14 | 2 | .5 | 14
Total |  |  |  |  | 181

The estimated annualized cost of this burden is: $4,646.27, which is calculated by taking the annualized burden (181 hours) and multiplying it by an hourly rate of $25.67 (GS-8/Step 5 hourly basic rate).

Seton Parsons,
Associate Counsel, U.S. Election Assistance Commission.

[FR Doc. 2025-13482 Filed 7-17-25; 8:45 am]

BILLING CODE 4810-71-P